SOCIAL SECURITY ADMINISTRATION

Agency Information Collection Activities: Proposed Request and Comment Request

The Social Security Administration (SSA) publishes a list of information collection packages requiring clearance by the Office of Management and Budget (OMB) in compliance with Public Law (Pub. L.) 104-13, the Paperwork Reduction Act of 1995, effective October 1, 1995. This notice includes revisions and extensions of OMB-approved information collections.

SSA is soliciting comments on the accuracy of the agency's burden estimate; the need for the information; its practical utility; ways to enhance its quality, utility, and clarity; and ways to minimize the burden on respondents, including the use of automated collection techniques or other forms of information technology. Mail, email, or fax your comments and recommendations on the information collection(s) to the OMB Desk Officer and the SSA Director for Reports Clearance to the addresses or fax numbers shown below.

(OMB)

Office of Management and Budget,

Attn: Desk Officer for SSA, Fax: 202-395-6974, E-mail address: OIRA_Submion@omb.eop.gov.

(SSA)

Social Security Administration, DCBFM, Attn: Director, Center for Reports Clearance, 1333 Annex Building, 6401 Security Blvd., Baltimore, MD 21235, Fax: 410-965-0454, E-mail address: OPLM.RCO@ssa.gov.

I. The information collection below is pending at SSA. SSA will submit it to OMB within 60 days from the date of this notice. To be sure we consider your comments, we must receive them no later than January 19, 2010. Individuals can obtain copies of the collection instrument by calling the SSA Director for Reports Clearance at 410-965-0454 or by writing to the above email address.

1. Important Information about Your Appeal, Waiver Rights and Repayment Options—20 CFR 404.502-521-0960-NEW. SSA uses Form SSA-3105 in an overpayment situation to explain the claimant's rights to reconsideration, waiver, or a different repayment rate. Claimants use Form SSA-3105 to inform SSA they do not agree with SSA's initial overpayment determination, they are unable to repay the overpayment, or to request a waiver for repayment to SSA. The respondents are individuals who are overpaid claimants who are requesting a waiver of recovery for the overpayment, reconsideration of the fact of the overpayment, or a lesser rate of withholding of the overpayment.

Type of Request: New information collection.

Number of Respondents: 800,000.

Frequency of Response: 1.

Average Burden per Response: 15 minutes.

Estimated Annual Burden: 200,000 hours.

2. Notification of a Social Security Number (SSN) to an Employer for Wage Reporting—20 CFR 422.103-0960-NEW. Individuals applying for employment must provide an SSN or indicate they have applied for one. The information SSA collects on Form SSA-112 allows SSA to send, at the individual's request, the individual's SSN to his or her employer. Mailing this information to the employer ensures the employer has the correct SSN for the individual, allows SSA to receive correct earnings information for wage reporting purposes for the individual, and reduces the delay between the initial SSN assignment and delivery of the SSN information to the employer. The respondents are individuals who are applying for an initial SSN and request to have the information mailed to their employer.

Type of Request: New information collection.

Number of Respondents: 375,000.

Frequency of Response: 1.

Average Burden per Response: 2 minutes.

Estimated Annual Burden: 12,500 hours.

3. Statement for Determining Continuing Eligibility, Supplemental Security Income Payment(s)—416.204-0960-0416. SSA uses the information from the SSA-8203-BK for high-error-profile redeterminations of disability to determine whether Supplemental Security Income (SSI) recipients have met and continue to meet all statutory and regulatory requirements for SSI eligibility and whether they have been, and are still receiving, the correct payment amount. Periodic collection of this information is the only way SSA can make these determinations, and collection of this information is mandatory under the law. The information is normally completed in field offices by personal contact (face-to-face or telephone interview) using the automated Modernized SSI Claim System (MSSICS). The respondents are SSI recipients or their representative payees.

Type of Request: Revision of an OMB-approved information collection.

Collection method | Number of respondents | Frequency of response | Average burden per response (minutes) | Estimated annual burden (hours)
MSSICS | 94,568 | 1 | 20 | 31,523
MSSICS/Signature Proxy | 31,522 | 1 | 19 | 9,982
Paper | 31,522 | 1 | 20 | 10,507
Totals | 157,612 |  |  | 52,012

4. Pain Report Child—20 CFR 416.912 and 416.512—0960-0540. Disability interviewers and applicants/claimants in self-help situations use Form SSA-3371-BK to record information about pain or other symptoms of a child who is claiming disability. The State Disability Determination Services adjudicators and administrative law judges use this information to assess the effects of symptoms on functionality to help make a disability determination. The respondents are applicants for SSI payments.

Type of Request: Extension of an OMB-approved information collection.

Number of Respondents: 250,000.

Frequency of Response: 1.

Average Burden per Response: 15 minutes.

Estimated Annual Burden: 62,500 hours.

5. Internet Direct Deposit Application—31 CFR 210—0960-0634. SSA uses Direct Deposit/Electronic Funds Transfer (DD/EFT) enrollment information received from beneficiaries to facilitate DD/EFT of their Social Security benefits with a financial institution. Respondents are Social Security beneficiaries who use the Internet to enroll in DD/EFT.

Type of Request: Extension of an OMB-approved information collection.

Number of Respondents: 90,000.

Frequency of Response: 1.

Average Burden per Response: 10 minutes.

Estimated Annual Burden: 15,000 hours.

II. SSA has submitted the information collections listed below to OMB for clearance. Your comments on the information collections would be most useful if OMB and SSA receive them within 30 days from the date of this publication. To be sure we consider your comments, we must receive them no later than December 17, 2009. You can obtain a copy of the OMB clearance packages by calling the SSA Director for Reports Clearance at 410-965-0454 or by writing to the above e-mail address.

1. Blood Donor Locator Service (BDLS)—20 CFR 401.200—0960-0501. This regulation stipulates when blood donor facilities identify blood donations as Human Immunodeficiency Virus (HIV)-positive, the overseeing state agency must provide the names and SSNs of the affected donors to SSA's BDLS. SSA uses this information to furnish the state agencies with the blood donors' address information to notify the blood donors. Respondents are state agencies acting on behalf of blood donor facilities.

Type of Request: Extension of an OMB-approved information collection.

Number of Respondents: 10.

Frequency of Response: 5.

Average Burden per Response: 15 minutes.

Estimated Annual Burden: 13 hours.

2. Representative Payee Report of Benefits and Dedicated Account—20 CFR 416.546, 416.635, 416.640, 416.665—0960-0576. SSA requires representative payees (RP) to submit a written report accounting for their use of money paid to Social Security and/or SSI recipients and to establish and maintain a dedicated account for these payments. SSA uses Form SSA-6233 to ensure RPs are using the benefits received for the recipient's current maintenance and personal needs, and the expenditures of funds from the dedicated account comply with the law. Respondents are RPs for SSI recipients.

Note: This is a correction notice. SSA published this information collection as an extension on September 2, 2009, at 74 FR 4408. Since we are revising the Privacy Act Statement, this is now a revision of an OMB-approved information collection.

Type of Request: Revision of an OMB-approved information collection.

Number of Respondents: 30,000.

Frequency of Response: 1.

Average Burden per Response: 20 minutes.

Estimated Annual Burden: 10,000 hours.

3. Medical Consultant's Review of Psychiatric Review Technique Form—20 CFR 404.1520a, 404.1640, 404.1643, 404.1645, 416.920a—0960-0677. Form SSA-3023 is a program evaluation form SSA's regional review component uses to facilitate the contract medical/psychological consultant's review of the Psychiatric Review Technique Form (PRTF). SSA-3023 records the reviewing medical/psychological consultant's assessment of the PRTF. The medical/psychological consultant only completes Form SSA-3023 when an adjudicating component's PRTF is in the file. Form SSA-3023 is required for each PRTF completed. The respondents are medical/psychological consultants who review the PRTF for quality purposes.

Note: This is a correction notice. SSA published this information collection as an extension on September 2, 2009, at 74 FR 45508. Since we are revising the Privacy Act Statement, this is now a revision of an OMB-approved information collection.

Type of Request: Revision of an OMB-approved information collection.

Number of Respondents: 344.

Frequency of Response: 165.

Average Burden per Response: 12 minutes.

Estimated Annual Burden: 11,352 hours.

Dated: November 10, 2009.
Elizabeth A. Davidson,
Director, Center for Reports Clearance, Social Security Administration.

[FR Doc. E9-27510 Filed 11-16-09; 8:45 am]

BILLING CODE 4191-02-P